DEPARTMENT OF TRANSPORTATION

Surface Transportation Board

[Docket No. AB 33 (Sub-No. 296X)]

Union Pacific Railroad Company—Abandonment Exemption—in Riverside and San Bernardino Counties, CA

On March 3, 2011, Union Pacific Railroad Company (UP) filed with the Surface Transportation Board (Board) a petition under 49 U.S.C. 10502 for exemption from the prior approval requirements of 49 U.S.C. 10903 to abandon 2 segments, totaling 5.0 miles, of the Riverside Industrial Lead in Riverside and San Bernardino Counties, Cal. The northern segment begins at milepost 540.15 near Colton and ends at milepost 543.88 near Riverside (North Segment), a distance of 3.73 miles, of which 2.27 miles are in San Bernardino County and 1.46 miles are in Riverside County. The southern segment begins at milepost 544.56 and extends to the end of the line at milepost 545.83 (South Segment), a distance of 1.27 miles in Riverside County (both segments collectively referred to as the Line). The Line traverses United States Postal Service Zip Codes 92324, 92313, 92507, and 92506.

In addition to an exemption from the prior approval requirements of 49 U.S.C. 10903, UP seeks exemption from 49 U.S.C. 10904 (offer of financial assistance (OFA) procedures) and 49 U.S.C. 10905 (public use conditions). In support, UP contends that exemption from these provisions is necessary to ensure that a portion of the underlying right-of-way will be available for conveyance to the California State Road Authority for its Interstate 215 Project. Further, UP states that exemption from these provisions will allow the Interstate 215 Project to avoid costs associated with building a replacement bridge on the North Segment of the Line. These requests will be addressed in the final decision.

UP is not seeking authority to abandon the portion of the Riverside Industrial Lead between the North Segment and the South Segment (from milepost 543.88 to milepost 544.56), a distance of .68 miles (the Remaining Segment). UP states that the Remaining Segment will still be part of the UP railroad system and will continue to serve the shippers on the Remaining Segment with BNSF Railway (BNSF) providing service via a haulage agreement and trackage rights, over a connection to be constructed between the Remaining Segment and a line of railroad owned by the Riverside County Transportation Commission. UP will remain the primary railroad obligated to serve the Remaining Segment.

The Line does not contain Federally granted rights-of-way. Any documentation in UP's possession will be made available promptly to those requesting it.

The interest of railroad employees will be protected by the conditions set forth in Oregon Short Line—Abandonment Portion Goshen Branch Between Firth & Ammon, in Bingham & Bonneville Counties, Idaho, 360 I.C.C. 91 (1979).

By issuance of this notice, the Board is instituting an exemption proceeding pursuant to 49 U.S.C. 10502(b). A final decision will be issued by June 21, 2011.

Any OFA under 49 CFR 1152.27(b)(2) will be due no later than 10 days after service of a decision granting the petition for exemption. Each OFA must be accompanied by a $1,500 filing fee. See 49 CFR 1002.2(f)(25).

All interested persons should be aware that, following abandonment of rail service and salvage of the Line, the Line may be suitable for other public use, including interim trail use. Any request for a public use condition under 49 CFR 1152.28 or for trail use/rail banking under 49 CFR 1152.29 will be due no later than April 12, 2011. Each trail request must be accompanied by a $250 filing fee. See 49 CFR 1002.2(f)(27).

All filings in response to this notice must refer to Docket No. AB 33 (Sub-No. 296X), and must be sent to: (1) Surface Transportation Board, 395 E Street, SW., Washington, DC 20423-0001; and (2) Mack H. Shumate, Jr., Senior General Attorney, Union Pacific Railroad Company, 101 N. Wacker Drive, #1920, Chicago, IL 60606-1718. Replies to the petition are due on or before April 12, 2011.

Persons seeking further information concerning abandonment procedures may contact the Board's Office of Public Assistance, Governmental Affairs, and Compliance at (202) 245-0238 or refer to the full abandonment or discontinuance regulations at 49 CFR part 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who commented during its preparation. Other interested persons may contact OEA to obtain a copy of the EA (or EIS). EAs in these abandonment proceedings normally will be made available within 60 days of the filing of the petition. The deadline for submission of comments on the EA generally will be within 30 days of its service.

Board decisions and notices are available on our Web site at http://www.stb.dot.gov.

Decided: March 16, 2011.
By the Board, Rachel D. Campbell, Director, Office of Proceedings.
Jeffrey Herzig,
Clearance Clerk.

[FR Doc. 2011-6649 Filed 3-22-11; 8:45 am]

BILLING CODE 4915-01-P